DEPARTMENT OF ENERGY

Federal Energy Regulatory Commission

Combined Notice of Filings #1

Take notice that the Commission received the following exempt wholesale generator filings:

Docket Numbers: EG20-112-000.

Applicants: Cedar Creek II, LLC.

Description: Notice of Self-Certification of Exempt Wholesale Generator Status of Cedar Creek II, LLC.

Filed Date: 4/10/20.

Accession Number: 20200410-5097.

Comments Due: 5 p.m. ET 5/1/20.

Take notice that the Commission received the following electric rate filings:

Docket Numbers: ER20-595-001.

Applicants: Midcontinent Independent System Operator, Inc.

Description: Tariff Amendment: 2020-04-10_Deficiency response to Solar DIR Filing to be effective 3/15/2020.

Filed Date: 4/10/20.

Accession Number: 20200410-5020.

Comments Due: 5 p.m. ET 5/1/20.

Docket Numbers: ER20-1208-001.

Applicants: David Energy Supply, LLC.

Description: Tariff Amendment: Amendment to MBR Application Filing to be effective 4/1/2020.

Filed Date: 4/9/20.

Accession Number: 20200409-5188.

Comments Due: 5 p.m. ET 4/30/20.

Docket Numbers: ER20-1533-000.

Applicants: CenterPoint Energy Houston Electric, LLC.

Description: § 205(d) Rate Filing: TFO Tariff Rate Revision to Conform with PUCT-Approved Rate to be effective 4/23/2020.

Filed Date: 4/9/20.

Accession Number: 20200409-5187.

Comments Due: 5 p.m. ET 4/30/20.

Docket Numbers: ER20-1534-000.

Applicants: PacifiCorp.

Description: § 205(d) Rate Filing: ESM Construction Agmt—Swift Troutdale to be effective 4/10/2020.

Filed Date: 4/9/20.

Accession Number: 20200409-5189.

Comments Due: 5 p.m. ET 4/30/20.

Docket Numbers: ER20-1535-000.

Applicants: PJM Interconnection, L.L.C.

Description: § 205(d) Rate Filing: Original WMPA, Service Agreement No. 5626; Queue No. AE1-160 to be effective 3/16/2020.

Filed Date: 4/10/20.

Accession Number: 20200410-5039.

Comments Due: 5 p.m. ET 5/1/20.

Docket Numbers: ER20-1536-000.

Applicants: Southwest Power Pool, Inc.

Description: § 205(d) Rate Filing: Revisions to Implement Generator Replacement Process to be effective 7/1/2020.

Filed Date: 4/10/20.

Accession Number: 20200410-5064.

Comments Due: 5 p.m. ET 5/1/20.

Docket Numbers: ER20-1537-000.

Applicants: RE Mustang Two Barbaro LLC.

Description: Baseline eTariff Filing: RE Mustang Two Barbaro LLC MBR Tariff to be effective 4/11/2020.

Filed Date: 4/10/20.

Accession Number: 20200410-5074.

Comments Due: 5 p.m. ET 5/1/20.

Docket Numbers: ER20-1538-000.

Applicants: RE Mustang Two Whirlaway, LLC.

Description: Baseline eTariff Filing: RE Mustang Two Whirlaway MBR Tariff to be effective 4/11/2020.

Filed Date: 4/10/20.

Accession Number: 20200410-5085.

Comments Due: 5 p.m. ET 5/1/20.

Docket Numbers: ER20-1539-000.

Applicants: Neighborhood Sun Benefit Corp.

Description: Compliance filing: Market Based Rate Tariff—Baseline to be effective 4/10/2020.

Filed Date: 4/10/20.

Accession Number: 20200410-5108.

Comments Due: 5 p.m. ET 5/1/20.

Docket Numbers: ER20-1540-000.

Applicants: San Diego Gas & Electric Company.

Description: Compliance filing: Order No. 864 Compliance Filing to be effective 1/27/2020.

Filed Date: 4/10/20.

Accession Number: 20200410-5110.

Comments Due: 5 p.m. ET 5/1/20.

Docket Numbers: ER20-1541-000.

Applicants: Tri-State Generation and Transmission Association, Inc.

Description: § 205(d) Rate Filing: Rate Schedule FERC No. 278 between Tri-State and DMEA to be effective 12/31/9998.

Filed Date: 4/10/20.

Accession Number: 20200410-5115.

Comments Due: 5 p.m. ET 5/1/20.

Docket Numbers: ER20-1542-000.

Applicants: Tri-State Generation and Transmission Association, Inc.

Description: § 205(d) Rate Filing: Rate Schedule FERC No. 262 between Tri-State and DMEA to be effective 6/10/2020.

Filed Date: 4/10/20.

Accession Number: 20200410-5116.

Comments Due: 5 p.m. ET 5/1/20.

Docket Numbers: ER20-1543-000.

Applicants: Tri-State Generation and Transmission Association, Inc.

Description: Tariff Cancellation: Notice of Cancellation of Rate Schedule FERC No. 7 to be effective 12/31/9998.

Filed Date: 4/10/20.

Accession Number: 20200410-5119.

Comments Due: 5 p.m. ET 5/1/20.

Docket Numbers: ER20-1545-000.

Applicants: Tri-State Generation and Transmission Association, Inc.

Description: Tariff Cancellation: Notice of Cancellation of Rate Schedule FERC No. 49 to be effective 12/31/9998.

Filed Date: 4/10/20.

Accession Number: 20200410-5122.

Comments Due: 5 p.m. ET 5/1/20.

Docket Numbers: ER20-1546-000.

Applicants: American Transmission Systems, Incorporated, PJM Interconnection, L.L.C.

Description: § 205(d) Rate Filing: ATSI submits Revised Service Agreement, SA No. 3992 with Ohio Edison Company to be effective 6/9/2020.

Filed Date: 4/10/20.

Accession Number: 20200410-5123.

Comments Due: 5 p.m. ET 5/1/20.

Docket Numbers: ER20-1547-000.

Applicants: Tri-State Generation and Transmission Association, Inc.

Description: Tariff Cancellation: Notice of Cancellation of Rate Schedules FERC No. 122 through No. 124 to be effective 12/31/9998.

Filed Date: 4/10/20.

Accession Number: 20200410-5125.

Comments Due: 5 p.m. ET 5/1/20.

Docket Numbers: ER20-1548-000.

Applicants: Tri-State Generation and Transmission Association, Inc.

Description: Tariff Cancellation: Notice of Cancellation of Rate Schedule FERC No. 199 to be effective 12/31/9998.

Filed Date: 4/10/20.

Accession Number: 20200410-5132.

Comments Due: 5 p.m. ET 5/1/20.

Docket Numbers: ER20-1549-000.

Applicants: California Independent System Operator Corporation.

Description: § 205(d) Rate Filing: 2020-04-10 LGIA Among VEA, GridLiance West, SVS and CAISO to be effective 6/10/2020.

Filed Date: 4/10/20.

Accession Number: 20200410-5139.

Comments Due: 5 p.m. ET 5/1/20.

Docket Numbers: ER20-1550-000.

Applicants: PJM Interconnection, L.L.C.

Description: Tariff Cancellation: Notice of Cancellation of WMPA, SA No. 5489, Queue No. AB2-168 re: Withdrawal to be effective 3/11/2020.

Filed Date: 4/10/20.

Accession Number: 20200410-5142.

Comments Due: 5 p.m. ET 5/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 10, 2020.
Nathaniel J. Davis, Sr.,
Deputy Secretary.

[FR Doc. 2020-08022 Filed 4-15-20; 8:45 am]

BILLING CODE 6717-01-P